DEPARTMENT OF TRANSPORTATION

Coast Guard

33 CFR Part 97

[USCG 2000-7080]

RIN 2115-AF97

Cargo Securing on Vessels Operating in U.S. Waters

AGENCY: Coast Guard, DOT.

ACTION: Notice of proposed rulemaking.

SUMMARY: The Coast Guard is proposing regulations to implement cargo securing standards for U.S. and foreign vessels, carrying general cargoes and hazardous materials on international voyages, to parallel the new requirements in Chapter VI and VII of the International Convention for the Safety of Life at Sea (SOLAS). The Coast Guard is also seeking comments on five options for the future development of cargo-securing regulations for U.S.-certificated vessels carrying hazardous materials in domestic coastwise trade.

DATES: Comments and related material must reach the Docket Management Facility on or before March 1, 2001.

ADDRESSES: To make sure your comments and related material are not entered more than once in the docket, please submit them by only one of the following means:

(1) By mail to the Docket Management Facility (USCG 2000-7080), U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on this proposed rule, please contact Mr. Bob Gauvin, Project Manager, Office of Operating and Environmental Standards, Commandant (G-MSO-2), U.S. Coast Guard, telephone 202-267-1053. For questions on viewing or submitting material to the docket, call Dorothy Beard, Chief, Dockets, Department of Transportation, telephone 202-366-9329.

SUPPLEMENTARY INFORMATION:

Request for Comments

We encourage you to participate in this rulemaking by submitting comments and related material. If you do so, please include your name and address, identify the docket number for this rulemaking (USCG 2000-7080), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this proposed rule in view of them.

Public Meeting

A public meeting was held on this matter in Room 2415 of the Coast Guard's Headquarters Building in Washington, DC, on February 3, 1999. A notice of that meeting and its agenda was published in the Federal Register (64 FR 1648) on January 11, 1999.

We do not now plan to hold any further public meetings, but you may submit a request for one to the Docket Management Facility at the address under ADDRESSES explaining why one would be beneficial. If we determine that another meeting would aid this rulemaking, we will hold one at a time and place announced by a later notice in the Federal Register.

Background and Purpose

Several maritime incidents during the early 1990's underscored the risk of serious injury or death, vessel loss, property damage, and environmental damage caused by improperly secured cargo aboard vessels. The most well-known incident occurred off the New Jersey coast in early 1992. During a voyage in bad weather, the M/V Santa Clara I lost 21 containers overboard, including 4 containers of the hazardous material, arsenic trioxide.

The Coast Guard convened a Board of Inquiry to investigate the M/V Santa Clara I mishap. The Board found that the container losses were caused by cargo securing failures related to bad weather and human error. Based on its findings, the Board recommended adopting the International Maritime Organization's (IMO) voluntary guidelines on cargo securing manuals as regulations in the International Convention for the Safety of Life at Sea, 1974 (SOLAS). The Commandant approved the Board's recommendation. With the support of other IMO member governments, the U.S. led a proposal to include new requirements for cargo securing manuals in SOLAS. These requirements were adopted as part of the 1994 amendments to SOLAS. These requirements are located in SOLAS Chapters VI/5.6 and VII/6.6.

Under SOLAS, all cargo vessels engaged on international voyages and equipped with cargo securing systems or individual securing arrangements must have a Flag State approved Cargo Securing Manual (CSM) by December 31, 1997. Under SOLAS and Executive Order 12234—which authorizes the Secretary to issue regulations that implement SOLAS—these requirements for a cargo securing manual apply to all U.S.-flag cargo vessels of 500 gross tons or more, engaged in international trade. Vessel types affected include general-cargo vessels, cellular containerships, roll-on/roll-off vessels, passenger/cargo vessels, supply vessels, bulk vessels capable of carrying non-bulk cargo, heavy lift ships, freight ships carrying packaged or break-bulk cargoes, and other similar vessels. Any vessel engaged solely in the carriage of bulk solids or liquid cargoes is exempt by SOLAS from the requirements for a cargo-securing manual.

To conform to these SOLAS requirements, CSMs must provide up-to-date information and guidance to assist a vessel's master and crew regarding the proper use of the equipment available to adequately stow and secure the vessel's cargo.

U.S. Coast Guard Navigation and Vessel Inspection Circular 10-97 (NVIC 10-97), “Guidelines for Cargo Securing Manual Approval,” provides interim guidance for U.S-flag vessel compliance with the SOLAS requirements. The NVIC includes CSM submittal, review, approval, and appeal procedures. A copy of the NVIC is available in the public docket or on the Internet at http://www.uscg.mil/hq/g-m/nvic/.

Problems with cargo securing are not limited to vessels engaged only in international trade. There have been a number of cargo-related marine casualties (such as loss overboard of containerized hazardous material) involving U.S.-flag vessels engaged in U.S. domestic coastwise trade. The majority of domestic marine casualties were caused by poor cargo securing methods, inadequate equipment, and poor planning and management of personnel securing cargo.

Changes in the technology of transporting hazardous materials, mostly in container feeder service using deck barges instead of ships within the U.S., have altered the management and oversight of cargo securing operations. These types of operations have had a significant number of cargo loss incidents over the last 5 years. These cargo losses have directly affected the safety at the arrival port facilities; introduced hazardous materials into U.S. domestic waters, and hazard the safety of the public in ports and along adjacent waterways used by commercial traffic. Because of this trend and the resulting increased risk of harm to the public and the environment, the Coast Guard is considering the need for cargo securing requirements for U.S. vessels engaged in U.S. domestic coastwise trade.

On February 3, 1999, the Coast Guard held a public meeting to collect comments on the need for U.S. regulations for national and international vessel cargo securing standards. The notice requested written and verbal comments that could be provided before, at, and after the meeting. Two written comments were received. You may view them at the public docket (USCG 1999-4951) on the Internet at http://dms.dot.gov. The meeting featured a presentation, including Coast Guard-collected casualty and risk-based information, as well as Coast Guard actions to date. The 14 members of the public and maritime industry who attended provided no verbal comments.

We contacted the Towing Safety Advisory Committee (TSAC) on this issue during the summer of 1999, and its executive staff decided to place this issue on its agenda for the TSAC's September 15, 1999 working meeting. At that meeting, a separate TSAC Container Barge Working Group was established, met, and discussed cargo securing operational standards within their industry. Several operational managers for container barge companies attended the Working Group session and spoke on their industry standards for cargo securing. The Working Group discussed whether there was a need for national cargo securing standards and options for reducing risk from hazardous material cargo transportation entailing cargo securing.

The Coast Guard has developed its proposal for options to develop national regulatory standards in line with the information received from the public meeting and TSAC Working Group session.

Discussion of Proposed Rule

International Requirements for Cargo Securing

The incorporation of the international standards from SOLAS for cargo securing in U.S. regulations is being completed under the Secretary's authority provided by 46 U.S.C. 3306(a)(1). Section 3306 contains broad authority to prescribe regulations for the proper inspection and certification of vessels and their fittings, equipment and appliances. It also provides regulatory flexibility for meeting technological changes.

The Coast Guard has developed proposed regulations that it intends to place in a new part 97 in Title 33, Code of Federal Regulations, Subchapter F, “Vessel Operating Regulations.” This new part 97 will be consistent with the rules provided by Chapter VI, Regulation 5(6) and Chapter VII, Regulation 6(6) and IMO recommended guidelines on the development and approval of CSMs for vessels applicable to SOLAS. This new part will describe—

(a) Applicability of and authorities for the cargo securing rules;

(b) Required elements for cargo securing systems;

(c) Enforcement actions for failure to comply with the part while operating in U.S. waters; and

(d) Ability for an organization to become an approval authority of CSMs for the U.S.

Domestic Requirements for Cargo Securing

At this point, the Coast Guard is not proposing regulations for U.S. vessels carrying hazardous materials as break-bulk or containerized cargoes in U.S. domestic coastwise trade. Rather, the Coast Guard is seeking comments on five options for the future development of national standards for these operations.

Option One: The Coast Guard develops regulations for the above described U.S. vessels that meet the same standards proposed for vessels required to meet the SOLAS requirements listed in this rulemaking as part of the new 33 CFR part 97.

Option Two: The Coast Guard develops regulations that allow companies to institute their own operational cargo securing and safety management standards for their vessel(s). These written standards would be submitted for approval by the Coast Guard, or to a recognized cargo standards organization selected by the Coast Guard for review and approval. If the vessel's company has already established cargo securing standards within a U.S.-certificated safety management system that meets 33 CFR part 96, this would be viewed as being equivalent to these requirements. The Coast Guard would amend and re-publish NVIC 10-97 to provide guidance on the minimum performance elements required for the company's cargo securing procedures or cargo securing manual. The Coast Guard would oversee the use of these procedures during vessel inspections and during normal, routine port safety monitoring of the vessel.

Option Three: The Coast Guard develops regulations that require a certificate of loading and securing, prior to a vessel's departure for sea, only when it will transport hazardous materials which come under the requirements of 49 CFR part 176. If the vessel is not carrying hazardous materials, it would not be required to be surveyed or have a cargo certificate for that voyage. A certificate for the cargo load would be received by the vessel's master, who would hire a Coast Guard recognized cargo surveying organization to survey the secured cargoes aboard the vessel before it departs from port. These regulations would establish standards for cargo surveying organizations to be recognized by the Coast Guard and enforcement authorities of the Coast Guard for violation of these regulations.

Option Four: The Coast Guard would develop regulations which would combine all three of the previously written options, allowing a vessel's owner to choose how to meet the regulations when a vessel would carry hazardous materials in domestic trade.

Option Five: The Coast Guard would not develop separate Federal cargo stowage and securing regulations but would incorporate by reference industry standards (developed in concert with TSAC) into regulations for coastwise-operating U.S. vessels. The Coast Guard would amend and re-publish NVIC 10-97 to provide guidance on the use of these industry standards and provide guidelines on how the industry would manage and internally audit the use of the standards by vessel personnel. The Coast Guard would externally audit the use of these incorporated standards and review records of their use during normal U.S-vessel inspections for certification or during routine port safety monitoring of the vessels.

The applicability for these standards would be for any U.S. vessel which—

(a) Is of 300 gross tons or more;

(b) Carries hazardous materials other than bulk solids or bulk liquids;

(c) Meets the requirements to hold a U.S. Coast Guard Certificate of Inspection under 46 CFR subchapter I (Parts 90-105); and

(d) Is certificated for domestic operation on coastwise voyages within the United States.

The Coast Guard proposes to place such regulations in 46 CFR part 91 and does not expect that these national standards will be applicable to U.S. vessels that operate only on inland waterways and rivers; lakes, bays, and sounds; or Great Lakes routes.

The Coast Guard requests that respondents, in their written comments about the five proposed options for domestic coastwise vessel operations, list which option they support, and explain the reason for their support. Respondents should also provide reasoning for not supporting the other four options, and they may offer any other proposals that they think we should consider to ensure the safety of the stowage and securing of hazardous materials in U.S. domestic coastwise trade.

Regulatory Evaluation

This proposed rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979).

Since this action parallels existing international requirements, which became effective on December 31, 1997, already enforced on vessels in that trade, we expect no economic impact from this proposed rule and a full Regulatory Evaluation under paragraph 10e of the regulatory policies and procedures of DOT is unnecessary.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard reviewed the effects of this enforcement policy when publishing its NVIC 10-97 on November 7, 1997. It is expected that this policy will not impact small entities, as there are few, if any, small entities that own or operate the craft affected by these proposed regulations.

Therefore, the Coast Guard certifies under 5 U.S.C. 605(b) that this proposed rule would not have a significant economic impact on a substantial number of small entities. If you think that your business, organization, or governmental jurisdiction qualifies as a small entity and this rule would have a significant economic impact on it, please submit a comment to the Docket Management Facility at the address under ADDRESSES. In your comment, explain why you think your business, organization, or governmental jurisdiction qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction, and you have questions concerning its provisions or options for compliance, please consult with: Mr. Bob Gauvin, Project Manager, Office of Operating and Environmental Standards, Commandant (G-MSO-2), U.S. Coast Guard, at 202-267-1053, by facsimile 202-267-4570, or by email at rgauvin@comdt.uscg.mil.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

For vessels complying with SOLAS, this proposed rule has collection-of-information requirements already covered by the SOLAS Cargo Ship Safety Equipment Certificate (CG-3347), approved under the Office of Management and Budget (OMB) control number 2115-0056. For vessels that must comply with U.S-certification requirements, this proposed rule has collection-of-information requirements already covered under the U.S. Coast Guard's Certificate of Inspection (CG-841), approved under OMB control number 2115-0517.

Federalism

We have analyzed this proposed rule under Executive Order 13132, Federalism.

It is well settled that States are precluded from regulating in categories that are reserved for regulation by the Coast Guard. It is also well settled, now, that all of the categories covered in 46 U.S.C. 3306 (design, construction, alteration, repair, maintenance, operation, and equipping of vessels, and cargo handling) are within the field foreclosed from State regulation. See United States v. Locke 120 S. Ct. 1135 (2000); Ray v. Atlantic Richfield Co., 435 U.S. 151 (1978). The exercise of State authority would conflict with the exercise of Federal authority under Federal Statute. Also see International Association of Independent Tank Vessel Owners (Intertanko) v. Locke, 148 F.3d 1053 (9th Cir. 1998). Thus, this rule falls into the above-mentioned categories, thereby precluding States from regulating. Because States may not promulgate rules within these categories, preemption is not an issue under Executive Order 13132.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph (34)(e), of Commandant Instruction M16475.lC, this rule is categorically excluded from further environmental documentation. The intent of these proposed rules is to ensure proper securing of cargoes to stop losses overboard of materials that can cause damage to the environment. We expect these regulations to have an indirect, positive effect on the environment, by reducing the frequency of accidental discharges of general and hazardous material cargoes in the ports and waterways of the U.S. and the world. A “Categorical Exclusion Determination” is available in the docket where indicated under ADDRESSES.

List of Subjects in 33 CFR Part 97

Cargo stowage and securing, Cargo vessels, Hazardous materials, Incorporation by reference, Reporting and recordkeeping requirements.

For the reasons discussed in the preamble, the Coast Guard proposes to amend 33 CFR Chapter I as follows:

PART 97—[ADDED]

1. Add part 97 to Subchapter F read as follows:

PART 97—RULES FOR THE SAFE OPERATION OF VESSELS, STOWAGE AND SECURING OF CARGOES

Subpart A—General
Sec.
97.100 Purpose.
97.110 To whom does this subpart apply?
97.120 Definitions.
97.130 Incorporation by reference.
Subpart B—Cargo Securing Manual
97.200 To whom does this subpart apply?
97.210 Cargo Securing Manual (CSM)—General.
97.220 Cargo securing devices and arrangements.
97.230 Inspection and maintenance of cargo securing devices.
97.240 Handling and safety instructions for cargo securing devices.
97.250 Evaluation of forces acting on cargo units and securing devices.
97.260 Use of portable cargo securing devices on various cargoes.
97.270 Special requirements for RO-RO vessels or bulk carriers.
97.280 Stowage and securing of containers and other standardized cargoes.
Subpart C—How will Cargo Securing Manual Requirements be Approved and Enforced?
97.300 Purpose.
97.310 To Whom does this subpart apply?
97.320 How do I receive approval on a U.S. vessel's Cargo Securing Manual?
97.330 When I amend an approved Cargo Securing Manual, will the amendments have to be reviewed and approved by a U.S. Cargo Securing Manual Approval Authority?
97.340 How do I appeal a decision made by a U.S. Cargo Securing Manual Approval Authority?
97.350 How will the Coast Guard handle compliance and enforcement of these regulations?
Subpart D—Authorization of an Organization to Act on Behalf of the U.S.
97.400 Purpose.
97.410 To whom does this regulation apply?
97.420 How does an organization submit a request to be authorized to approve Cargo Securing Manuals for U.S. vessels?
97.430 How will the Coast Guard decide whether to approve an organization's request to be authorized?
97.440 What happens if the Coast Guard disapproves an organization's request to be authorized?
97.450 How will I know what the Coast Guard requires of my organization if my organization receives authorization?
97.460 How does the Coast Guard terminate an organization's authorization?
97.470 What is the status of a certificate if the issuing organization has its authority terminated?
97.480 What further obligations exist for an organization if the Coast Guard terminates its authorization?

Authority: 46 U.S.C. 2103 and 3306 et. seq.; 49 CFR 1.46.; and E.O. 12234.

Subpart A—General

§ 97.100 Purpose.

This subpart implements the requirement that certain vessels operating in U.S. waters on international voyages, carrying general and hazardous materials as break-bulk or containerized cargoes must comply with Chapter VI/5 and VII/6 of the International Convention for the Safety of Life at Sea (SOLAS), 1974, stowage and securing requirements (adopted in London on May 24, 1994, and effective on December 31, 1997).

Note: All chapters of SOLAS are available from the International Maritime Organization, Publication Section, 4 Albert Embankment, London, SE1 75R, United Kingdom, Telex 23588. Please indicate document reference number “IMO-110E” in your request.

§ 97.110 To whom does this subpart apply?

This subpart applies to you if—

(a) You are the master of a U.S. vessel and it must comply to Chapter VI/5 or Chapter VII/6 of SOLAS due to the cargo the vessel carries on international voyages;

(b) You are the master of a foreign vessel and it must comply to Chapter VI/5 or Chapter VII/6 of SOLAS due to the cargo the vessel carries on international voyages;

(c) You are the owner of a U.S. vessel that is not required to meet Chapter VI/5 or Chapter VII/6 of SOLAS but request application of this subpart.

(d) You are an organization applying to be selected as a U.S. CSM Approval Authority to review and issue approval certification on CSMs for U.S.-flag vessels.

§ 97.120 Definitions.

As used in this part—

Administration means the Government of the State whose flag the ship is entitled to fly.

Cargo securing devices means all fixed and portable devices used to secure and support cargo units to a ship.

Cargo Securing Manual (CSM) means a manual or documents developed to meet the requirements of SOLAS or this part that are used by the Master of a cargo vessel to instruct and provide reference on how to properly stow and secure cargoes on the vessel for which it is developed.

CSM Approval Authority means an organization recognized by the Commandant of the Coast Guard which meets the requirements of subpart D, 33 CFR part 97, and has been authorized under this part to conduct certain actions and issue approval letters on behalf of the United States.

Captain of the Port (COTP) means the U.S. Coast Guard officer as described in 33 CFR 6.01-3, commanding a Captain of the Port zone described in 33 CFR part 3, or that person's authorized representative.

Cargo unit means vehicles (road vehicles, roll trailers, etc.), railway wagons, containers, flats, pallets, portable tanks, intermediate bulk containers (IBC), packaged units, unit loads, other cargo units such as shipping cassettes, cargo entities such as steel coils and heavy cargo items such as locomotives and transformers. Loading equipment, or any part thereof, transported on the ship, but which is not permanently fixed to the ship, is also considered a cargo unit.

Hazardous material means a substance or material, determined by the Secretary of Transportation to be capable of posing an unreasonable risk to health, safety, and property when transported in commerce, and which has been so designated. The term includes hazardous substances, hazardous wastes, marine pollutants, and elevated temperature materials as defined in 49 CFR part 171, materials designated as hazardous under the provisions of 49 CFR 172.101, and materials that meet the defining criteria for hazard classes and divisions in 49 CFR part 173.

Maximum Securing Load (MSL) means the allowable load capacity for a device used to secure cargo to a ship. Safe Working Load (SWL) may be substituted for MSL for securing purposes provided this is equal to or exceeds the strength defined by MSL.

Non-standardized cargo means cargo that requires individual stowage and securing arrangements.

Officer In Charge, Marine Inspection (OCMI) means the U.S. Coast Guard officer as described in 46 CFR 1.01-15(b), in charge of an inspection zone described in 33 CFR part 3, or that person's authorized representative.

Semi-standardized cargo means cargo for which the ship is provided a securing system capable of accommodating a limited variety of cargo units, such as vehicles, trailers, etc.

SOLAS means the International Convention for the Safety of Life at Sea, 1974, as amended.

Standardized cargo means cargo for which the ship is provided an approved securing system based upon cargo units of a specific type.

Vessel engaged on an international voyage means a vessel to which this part applies that is—

(1) Arriving at a place under the jurisdiction of the United States from a place in a foreign country;

(2) Making a voyage between places outside of the United States; or

(3) Departing from a place under the jurisdiction of the United States and for a place in a foreign country.

§ 97.130 Incorporation by reference.

(a) The Director of the Federal Register approves certain material that is incorporated by reference into this subpart under 5 U.S.C. 552(a) and 1 CFR part 51. To enforce the edition other than specified in paragraph (b) of this section, the Coast Guard must publish notice of the change in the Federal Register and the material must be available to the public. You may inspect all material at the Office of the Federal Register, 800 North Capitol St., NW., Suite 700, Washington, DC, and at the U.S. Coast Guard Office of Design and Engineering Standards (G-MSE), 2100 Second St., SW., Washington, DC 20593-0001, and receive it from the source listed in paragraph (b) of this section.

(b) The material approved for incorporation by reference in this subpart and the sections affected are as follows:

International Maritime Organization (IMO)

4 Albert Embankment, London, SE1 7SR, United Kingdom:

Assembly Resolution 533(13) (Res.A.533(13)), Elements to be taken into account when considering the Safe Stowage and Securing of Cargo Units and Vehicles in Ships, November 17, 1983-97—subpart B.

Assembly Resolution 581(14) (Res.A.581(14)), Guidelines for Securing Arrangements for the transport of Road Vehicles on RO-RO Ships, November 20, 1985-97—subpart B.

Maritime Safety Committee Circular 745 (MSC/Circ. 745), Guidelines for the Preparation of the Cargo Securing Manual, June 13, 1996-97—subpart B and C.

Subpart B—Cargo Securing Manual

§ 97.200 To whom does this subpart apply?

This subpart applies to—

(a) A U.S. cargo vessel of 500 gross tons or more that must comply to Chapter VI/5 or Chapter VII/6 of SOLAS and that does not solely carry liquid or solid cargoes in bulk on international voyages;

(b) A foreign cargo vessel of 500 gross tons or more that must comply to Chapter VI/5 or Chapter VII/6 of SOLAS and that does not solely carry liquid or solid cargoes in bulk on international voyages;

(c) Any U.S. cargo vessel that is not required to meet Chapter VI/5 or Chapter VII/6 of SOLAS but requests application of this subpart.

§ 97.210 Cargo Securing Manuals (CSM)—General.

(a) Each vessel that must meet this part must have a manual on board that has been approved by its Flag Administration that, at a minimum, is developed with chapters or sections that cover the following subjects:

(1) Securing devices and arrangements.

(2) Inspection and maintenance of cargo securing systems.

(3) Stowage and securing of non-standardized and semi-standardized cargo.

(4) Stowage and securing of containers and other standardized cargo.

(b) The information and requirements that are developed in the CSM must be consistent with—

(1) The vessel's trim and stability booklet;

(2) The vessel's International Load Line Certificate;

(3) The vessel's hull strength loading manual (if provided); and

(4) The requirements of 49 CFR part 176 if applicable to the cargoes being carried.

Note to paragraph (b): The guidance provided by the CSM should by no means rule out the principles of good seamanship, nor can it replace experience in stowage and securing practices.

(c) The CSM must describe the specific arrangements and cargo securing devices provided on board the vessel for use with and securing of cargo units, containers, vehicles, and other entities.

(d) Cargo securing instructions must be developed within the CSM based on the transverse, longitudinal and vertical forces that may arise during a vessel voyage due to adverse sea and weather conditions.

(e) The CSM must contain guidance that—

(1) Directs when cargo securing should be completed; and

(2) Explains how the cargo securing should be accomplished, by whom, with what securing devices, and to which specific securing points or fittings on the vessel. This guidance should recommend how often the securing needs to be examined during a vessel's voyage at sea to ensure that the securing system has not failed or loosened due to vessel movement through a heavy seaway or adverse weather conditions.

(f) The cargo securing devices described in a vessel's CSM should be suitable and adaptable to the quantity, type of packaging, and physical properties of the cargo being carried.

(g) The description of the cargo securing devices should show the number of securing devices needed to properly secure cargo in line with the guidelines of the CSM, and list where and how many reserve cargo securing devices are to be kept in the vessel's inventory.

(h) The CSM should include information on the strength of MSL, and instructions for use and maintenance of, specific cargo securing devices carried aboard the vessel.

§ 97.220 Cargo securing devices and arrangements.

(a) The CSM must provide descriptions of the fixed cargo securing devices provided aboard the vessel, which must include the following:

(1) A list, a plan, or both of the fixed cargo securing devices aboard the vessel with a description and specification for the devices, which includes the—

(i) Name of the device's manufacturer;

(ii) Type designation of the device with a simple sketch for ease of identification;

(iii) Materials the devices are made of;

(iv) Identification markings;

(v) Strength test results or ultimate tensile strength test results;

(vi) Results of non-destructive testing; and

(vii) Securing device's maximum securing load (MSL).

(2) Fixed securing devices attached to a vessel's bulkheads, web frames, stanchions, decks or other vessel structures must be listed in the CSM by type, where provided, and include each device's MSL.

(3) For vessels that were existing when these regulations became effective under SOLAS (after December 31, 1997) with standardized fixed securing devices, the information on the device's MSL and location of securing points is acceptable.

(b) The CSM must provide descriptions of portable cargo securing devices provided to the vessel, which must include the following:

(1) A list of the portable cargo securing devices provided aboard the vessel and specification for the device, which includes the—

(i) Name of the device's manufacturer;

(ii) Type designation of the device with a simple sketch for ease of identification;

(iii) Materials the device is made of, including its safe operational temperatures;

(iv) Identification markings;

(v) Strength test results or ultimate tensile strength test results;

(vi) Results of non-destructive testing; and

(vii) Portable securing device's maximum securing load (MSL).

(2) These lists should include the use and MSL for each portable securing device carried aboard the vessel, including but not limited to container stacking fittings, container deck securing fittings, fittings for interlocking of containers, bridge fittings, chains, wire lashings, rods, tensioners, securing gear for automobiles and other vehicles, and trestles and jacks used for vehicle trailers.

(3) Other materials that support securing, such as anti-skid boards, should also be listed in the portable securing device section of the CSM.

§ 97.230 Inspection and maintenance of cargo securing devices.

The CSM must have a chapter or section on the inspection of all the vessel's cargo securing devices. These securing device inspections must be carried out under the responsibility of the vessel's master. This chapter or section should include—

(a) A listing of requirements or a timeline for the inspection or re-testing of fixed and portable cargo securing devices aboard the vessel as required by regulatory equipment standards;

(b) A listing of requirements for when and how to complete visual examinations of all the vessel's onboard fixed and portable cargo securing system devices;

(c) Procedures for accepting, maintaining, repairing or rejecting fixed or portable cargo securing devices during examination, re-testing, or use; and

(d) A record book section to keep the vessel's records of the inspections, re-testing and maintenance completed on the vessel's fixed or portable cargo securing devices.

Note to paragraph (d): Electronic means of keeping records required by this section are considered acceptable for meeting this requirement.

§ 97.240 Handling and safety instructions for cargo securing devices.

A chapter or section of the CSM must discuss the proper ways to handle securing devices, and provide safety instructions relating to the handling of securing devices by ship or shore personnel when securing and unsecuring units of cargo aboard the vessel. This written information should include specific safety instructions related to the securing and unsecuring of containers and other standardized cargoes as described by § 97.280.

§ 97.250 Evaluation of forces acting on cargo units and securing devices.

A chapter or section of the CSM must have lists, tables, graphs, or diagrams that provide the following:

(a) An outline of the vessel's accelerations that can be expected in various positions onboard the vessel for adverse sea conditions with a range of applicable metacentric height (GM) values.

(b) Calculated examples of the forces acting on typical cargo units when subjected to the accelerations provided in paragraph (a) of this section, and the angles of roll and metacentric height (GM) values above which the forces acting on the cargo units exceed the permissible limits for the specified securing arrangements as far as practicable;

(c) Written examples of how to calculate the number and strength of portable securing devices required to counteract the forces referred to in paragraph (b) of this section, as well as the safety factors to be used for the different types of vessel portable cargo securing devices;

(d) The person who develops a CSM must convert the calculation methods used into a form suited for a particular vessel, its securing devices and the cargo carried. This form may consist of applicable diagrams, tables, calculated examples; and

(e) Other operational arrangements such as electronic data processing (EDP) or use of a loading computer may be accepted as alternatives to the requirements in paragraphs (a) and (d) of this section, providing that the system contains the same information.

Note to § 97.250: Examples of how to complete the strength calculations of portable cargo securing devices required by paragraph (d) are provided in Annex 13 of the Code of Safe Practice for Cargo Stowage and Securing (Res.A.714 (17)), IMO Publication: IMO—292E.

§ 97.260 Use of portable cargo securing devices on various cargoes.

A chapter or section of the CSM must provide—

(a) Direction to the vessel's master for the correct application of portable securing devices, taking into account the following:

(1) Duration of a voyage.

(2) Geographical area of the voyage with regard to the minimum safe operational temperature of portable securing devices.

(3) Sea conditions which may be expected.

(4) Dimensions, designs, and characteristics of the ship.

(5) Estimated static and dynamic forces during the voyage.

(6) Type and packaging of cargo units, including vehicles.

(7) Intended stowage pattern of the cargo units, including vehicles.

(8) Mass and dimensions of the cargo units and vehicles.

(b) A part of this chapter or section of the CSM must describe the application of portable cargo securing devices as to the number of lashings and allowable lashing angles. Where necessary, the text should be supplemented by suitable drawings or sketches to facilitate the correct understanding and proper application of the securing devices to various types of cargo and cargo units. The text should include warnings that certain cargoes have low friction resistance, and it is advisable to place soft boards or other anti-skid materials under such cargoes to increase friction when secured.

(c) A part of this chapter or section of the CSM must contain recommendations for vessel locations and the methods of stowing and securing—

(1) Containers;

(2) Trailers and other cargo carrying vehicles;

(3) Palletized cargoes;

(4) Unit loads and single load items (e.g. wood pulp, paper rolls, etc.);

(5) Heavy weight cargoes; and

(6) Cars or other vehicles.

§ 97.270 Special requirements for RO-RO vessels or bulk carriers.

(a) RO-RO vessels must have a section in their CSM that provide sketches showing the layout of fixed securing devices with MSL identification as well as the distances between securing points in all directions.

(b) Designs or sketches of cargo securing arrangements for cargo units, including vehicles and containers on RO-RO passenger vessels, must show—

(1) The minimum strength requirements for securing devices used;

(2) Forces due to ship motion;

(3) Angle of heel after damage or flooding; and

(4) Other considerations relevant to the effectiveness of the cargo securing arrangements that must be taken into account.

(c) When bulk carriers carry cargo units falling under the applicability of § 97.110, this cargo must be stowed and secured per a CSM approved under this part.

Note to § 97.270: IMO Assembly Resolutions A.533(13) and A.581(14) should be utilized in the development of this section of the CSM involving special requirements.

§ 97.280 Stowage and securing of containers and other standardized cargoes.

A section or chapter must be provided in the CSM on the following:

(a) The stowage and securing of containers, within or without cell guides, and other standardized cargoes for vessels carrying such cargo units.

(b) A comprehensive and understandable loading plan or sets of plans must be provided with the overview of—

(1) Longitudinal and athwartship views of the underdeck and deck stowage locations of containers as appropriate;

(2) Alternative stowage patterns for containers of different dimensions;

(3) Maximum stack masses;

(4) Permissible vertical sequences of masses of stacks;

(5) Maximum stack heights with respect to approved sight lines; and

(6) Application of securing devices using suitable symbols to display stowage positions, stack mass, sequence of masses in stack, and stack height.

(c) This section or chapter of the CSM must support the interpretation of the stowage and securing plan for container stowage, explaining—

(1) The use of specified securing devices;

(2) Any guiding or limiting parameters, such as dimensions of containers, maximum stack masses, sequence of masses in stacks, stacks affected by wind load, height of stacks; and

(3) Any specific warnings of possible consequences from misuse of securing devices or misinterpretations of instructions given.

(d) Necessary cargo stowage and securing information must be provided in the CSM with deviations from the general instructions provided in paragraph (b) of this section, including appropriate warnings of possible misuse of securing devices or misinterpretation of instructions provided. Information should be provided with regard to—

(1) Alternative vertical sequences of masses in stacks;

(2) Stacks affected by wind load in the absence of outer stacks;

(3) Alternative stowage of containers with various dimensions; and

(4) Permissible reduction of securing effort with regard to lower stack masses, lesser stack heights or other reasons.

(e) This section or chapter of the CSM must present the distribution of accelerations on which the stowage and securing system is based. Information on forces induced by wind and sea on deck, as well as, information of the nominal increase of forces or accelerations due to changes from initial stability on the stow, must be provided.

(f) Recommendations must be included in this section or chapter of the CSM which provide guidelines for reducing the risk of cargo losses from deck stowage by restrictions to stack masses or stack heights, when loading scenarios could lead to stability conditions which may generate longer than normal accelerations or motions.

(g) Any symbols used in the sketches required by this section must be used consistently throughout the CSM.

Subpart C—How Will Cargo Securing Manuals Requirements Be Approved and Enforced?

§ 97.300 Purpose.

The purpose of this subpart is to provide you, the person who develops a vessel's CSM, all the information required to submit the CSM for approval and compliance.

§ 97.310 To whom does this subpart apply?

This subpart applies to—

(a) A developer of a CSM, or the owner or operator of a U.S. cargo vessel of 500 gross tons or more that must comply to Chapter VI/5 or Chapter VII/6 of SOLAS, and that does not solely carry liquid or solid cargoes in bulk on international voyages;

(b) Owner, operator, or Master of a vessel of 500 gross tons or more that must comply to Chapter VI/5 or Chapter VII/6 of SOLAS and does not solely carry liquid or solid cargoes in bulk on international voyages; and

(c) A developer of a CSM, or the owner or operator of any U.S. cargo vessel that is not required to meet Chapter VI/5 or Chapter VII/6 of SOLAS but requests approval of a developed CSM for the vessel.

§ 97.320 How do I receive approval on a U.S. vessel's Cargo Securing Manual?

(a) The CSM developer, or the owner or operator of a vessel, may submit a CSM meeting this part to a U.S. CSM Approval Authority for review and approval. Commandant (G-MOC) is the responsible office in the Coast Guard for overseeing and managing the review and approval of U.S. vessel CSM applications. A list of U.S. CSM Approval Authorities can be received by contacting Commandant (G-MOC), 2100 Second Street SW., Washington, DC 20593-0001.

(b) For a CSM to be approved, one copy of the original CSM for the vessel must be provided to a U.S. CSM Approval Authority for review. This copy will not be returned after the review process but will be kept for records of the actions taken on the review and approval, or disapproval of the CSM. The CSM and any amendments must be dated, with a “change of page” document included within the CSM, to ensure continuous documentation of amendments made to the manual and the dates they are completed.

(c) When the review process is complete, the U.S. CSM Approval Authority will provide a written statement to the provider of the CSM, which will indicate if the CSM is approved, requires amendment to complete the approval process, or is disapproved. The submitter of a disapproved CSM may resubmit amendments (with the CSM to be reviewed further) if discrepancies noted in the disapproval can be rectified by new information that was excluded or that further expands the CSM to fully meet the requirements of this part.

(d) The original of the CSM approval letter provided by the U.S. CSM Approval Authority must be kept with the CSM onboard the vessel. The CSM and its approval letter must be made available for Coast Guard personnel examination whenever requested.

§ 97.330 When I amend an approved Cargo Securing Manual, will the amendments have to be reviewed and approved by a U.S. Cargo Securing Manual Approval Authority?

Only certain amendments to an approved CSM require that you resubmit the amended CSM for review and re-approval by a U.S. CSM Approval Authority—

(a) Reconfiguration of a vessel from one type of cargo carriage to another (e.g., a general break-bulk cargo vessel to a container or a RO-RO vessel);

(b) Reconfiguration or replacement of 15 percent or more of the vessel's fixed cargo securing or tie down systems with different types of devices or systems; and

(c) Replacement of 15 percent or more of the vessel's portable cargo securing devices, with different types of devices for securing the cargo not already used aboard the vessel (e.g., wire lashings replaced with turnbuckles or chains).

§ 97.340 How do I appeal a decision made by a U.S. Cargo Securing Manual Approval Authority?

(a) You may submit a written appeal to the U.S. CSM Approval Authority requesting reconsideration of information in dispute. Within 30 days of receiving the appeal, the CSM Approval Authority must provide the vessel owner with a written ruling on the request with a copy to Commandant (G-MOC).

(b) If you are dissatisfied with the CSM Approval Authority's ruling, you may submit a request of appeal on the matter to Commandant (G-MOC). You must make this appeal in writing, including documentation and evidence which needs to be considered. You may ask the Commandant (G-MOC) to stay the effect of the appealed decision by the CSM Approval Authority while the request is under review by the Coast Guard.

(c) The Commandant (G-MOC) will make a decision on your appeal and send you a written response of the decision. That decision will be the final Coast Guard action on your appeal.

§ 97.350 How will the Coast Guard handle compliance and enforcement of these regulations?

(a) While operating in waters under the jurisdiction of the United States, the Coast Guard may board any vessel required to meet this part or SOLAS to determine that the vessel has a CSM onboard. The Coast Guard will also verify that the vessel's Flag Administration or an authorized organization acting on behalf of the Flag Administration has approved the CSM.

(b) A foreign vessel that does not comply with these regulations or SOLAS may be detained by order of the COTP or OCMI. Detainment may occur at the port or terminal where the violation is found until in the opinion of the detaining authority the vessel can go to sea without presenting an unreasonable threat of harm to the port, the marine environment, the vessel, or its crew. The detention order may allow the vessel to go to another area of the port, if needed, rather than stay at the place where the violation was found.

(c) If any vessel that must comply with this part, or with the requirements of SOLAS for approved CSMs, is found in violation of this part, a vessel owner or Master, or any person in charge of the vessel, may be liable for a civil penalty under 46 U.S.C. 3318.

Subpart D—Authorization of an Organization to Act on Behalf of the U.S.

§ 97.400 Purpose.

(a) This subpart establishes criteria and procedures for organizations to be authorized by the Coast Guard to act on behalf of the U.S. The authorization is necessary in order for an organization to perform reviews of CSMs for U.S. vessels and approve them as delegated by the Coast Guard as required by this part.

(b) To receive an up-to-date list of organizations authorized to act under this subpart, send a self-addressed, stamped envelope, and written request to the Commandant (G-MOC), 2100 Second Street SW., Washington, DC 20593-0001.

§ 97.410 To whom does this regulation apply?

This subpart applies to all U.S. organizations that seek authorization to complete reviews of U.S. vessel CSMs and issue U.S. approval letters of their compliance with international requirements and this part, on behalf of the U.S.

§ 97.420 How does an organization submit a request to be authorized to approve cargo securing manuals for U.S. vessels?

(a) An organization must send a written request for authorization to the Commandant (G-MOC), Office of Compliance, 2100 Second Street SW., Washington, DC 20593-0001. The request must include the following:

(1) A certified copy of the organization's certificate of incorporation on file with a U.S. state, including the name and address of the organization, with written statements or documents which—

(i) Show that the organization's owners, managers, and employees are free from influence or control by vessel shipbuilders, owners, operators, lessors, or other related commercial interest as evidenced by past and present business practices;

(ii) Show that the organization has a demonstrated capability to competently evaluate CSMs for completeness and sufficiency per the requirements of SOLAS and this part;

(iii) Demonstrate an acceptable degree of financial security, based on recent audits by certified public accountants over the last 5 years; and

(iv) Show that the organization maintains a corporate office in the United States that has adequate resources and staff to support all aspects of CSM review, approval, and recordkeeping.

(2) A listing of the organization's principal executives, with telephone and telefax numbers;

(3) A written description of the organization, covering the ownership, managerial structure, and organization components, including directly affiliated agencies and their functions, utilized for supporting technical services;

(4) A written list of technical services the organization offers;

(5) A written general description of the geographical area the organization serves;

(6) A written general description of the clients the organization is serving, or intends to serve;

(7) A written description of the type of similar work performed by the organization in the past, noting the amount and extent of such work performed within the previous 3 years;

(8) A written listing of the full-time professional staff employed by the organization and available for technical review and approval of CSMs, including any—

(i) Naval architects, naval engineers, or both, with copies of their professional credentials such as college degrees, specialized training certificates, or the like; and

(ii) Coast Guard issued Merchant Marine licenses for operation of vessels with unlimited tonnage certification for cargo vessel operation with a summary of underway experience.

(9) Written proof of staff competency to perform tasks, evidenced by detailed summaries of each individual's experience (measured in months or years), during the past 5 years of evaluating maritime cargo securing systems. Experience summaries must be documented on company letterhead and endorsed by a company executive who has had direct observation of the individual and quality of his or her work product;

(10) Written standards used by the organization for internal quality control to ensure consistency in CSM review and approval procedures by qualified professionals;

(11) A description of the organization's training program for assuring continued competency of professional employees identified in the application involved in CSM review and approval; and

(12) A list of five or more business references, including names, addresses, and telephone numbers of principal managers, who can provide evidence of the organization's competence within the past 2 years.

(b) The written request from the organization must also include a statement to the Coast Guard that Coast Guard officials may inspect the organization's facilities and records of CSM review and approval on behalf of the U.S. at any time.

(c) Commandant (G-MOC) may request additional information other than that required by this section in order to complete its evaluation of an organization. If this should occur, Commandant (G-MOC) will provide a written request for the information directly to the organization applying for authorization of CSM Approval Authority.

§ 97.430 How will the Coast Guard decide whether to approve an organization's request to be authorized?

(a) First, the Commandant (G-MOC) will evaluate the organization's request for authorization and supporting written materials, looking for evidence of the following:

(1) The organization's clear assignment of management duties;

(2) Ethical standards for managers and CSM reviewers;

(3) Procedures for personnel training, qualification, certification, and re-qualification that are consistent with recognized industry standards;

(4) Acceptable standards available for the organization's internal auditing and management review;

(5) Recordkeeping standards for CSM review and approval;

(6) Methods used to review and certify CSMs;

(7) Methods for handling appeals; and

(8) Overall procedures consistent with IMO Resolution A.739(18), “Guidelines for the Authorization of Organizations Acting on Behalf of the Administration.”

(b) After a favorable evaluation of the organization's written request, the Coast Guard will arrange to visit the organization's corporate and port offices for an on-site evaluation of operations.

(c) When a request is approved, the recognized organization and the Coast Guard will enter into a written agreement. This agreement will define the scope, terms, conditions, and requirements of the authorization. Conditions of this agreement are found in § 97.450 of this part.

§ 97.440 What happens if the Coast Guard disapproves an organization's request to be authorized?

(a) The Coast Guard will write to the organization explaining why it did not meet the criteria for authorization.

(b) The organization may then correct the deficiencies and reapply.

§ 97.450 How will I know what the Coast Guard requires of my organization if my organization receives authorization?

Your organization will enter into a written agreement with the Coast Guard. This written agreement will specify—

(a) How long the authorization is valid;

(b) Which duties and responsibilities the organization may perform and what approval letters it may issue on behalf of the U.S.;

(c) Reports and information the organization must send to the Commandant (G-MOC);

(d) Actions the organization must take to renew the agreement when it expires; and

(e) Actions the organization must take if the Coast Guard should revoke its authorization under this subpart.

§ 97.460 How does the Coast Guard terminate an organization's authorization?

At least every 12 months, the Coast Guard evaluates organizations authorized under this subpart. If an organization fails to maintain acceptable standards, the Coast Guard may terminate that organization's authorization and remove the organization from the Commandant's list of authorized organizations.

§ 97.470 What is the status of a certificate if the issuing organization has its authority terminated?

Any CSM approval certificate issued by a U.S. CSM Approval Authority whose authorization is later terminated remains valid as long as amendments have not been completed which require it to be re-approved, as required by § 97.330. In such a situation, the owner of the vessel should contact the Commandant (G-MOC) directly to request information on which authorized organizations are available to act on behalf of the U.S. to complete a new review and approval of the vessel's amended CSM.

§ 97.480 What further obligations exist for an organization if the Coast Guard terminates its authorization?

The written agreement by which an organization receives authorization from the Coast Guard places it under certain obligations if the Coast Guard revokes that authorization. The organization agrees to send written notice of its termination to act on behalf of the U.S. to all vessel owners that have received CSM approvals for their vessel manuals. In that notice, the organization must include—

(a) A written statement explaining why the organization's authorization was terminated by the Coast Guard;

(b) An explanation of the status of issued approvals; and

(c) A current list of organizations authorized by the Coast Guard to conduct CSM reviews and approvals.

Dated: November 21, 2000.
Joseph J. Angelo,
Director of Standards, Acting Assistant Commandant for Marine Safety and Environmental Protection.

[FR Doc. 00-30447 Filed 11-30-00; 8:45 am]

BILLING CODE 4910-15-U